DEPARTMENT OF ENERGY

Federal Energy Regulatory Commission

[Docket No. CP18-42-000]

Transcontinental Gas Pipe Line Company, LLC; Notice of Filing

Take notice that on January 2, 2018, pursuant to Rule 212 of the Commission's Rules of Practice and Procedure (18 CFR 385.212), the North Carolina Utilities Commission (NCUC) filed a motion for order to show cause regarding: (1) Whether Transcontinental Gas Pipe Line Company, LLC (Transco) has been operating, and is continuing to operate, its Eminence Salt Dome Storage Field, located near the Town of Seminary in Covington County, Mississippi, in accordance with the amended certificate issued in Docket No. CP11-151; ¹ and, (2) whether Transco should be allowed to assess demand charges for the amount of firm service from the Eminence Salt Dome Storage Field under Rate Schedule ESS and Rate Schedule EESWS that Transco allegedly has been and is currently unable to provide given the revised operating parameters of the Eminence Salt Dome Storage Field.

¹ Transcontinental Gas Pipe Line Co., LLC, 142 FERC 61,095 (2013), order on reh'g, 147 FERC 61,091 (2014).

The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

Any person wishing to obtain legal status by becoming a party to this proceeding should, on or before the comment date listed below, file with the Federal Energy Regulatory Commission, 888 First Street NE, Washington, DC 20426, a motion to intervene in accordance with the requirements of the Commission's Rules of Practice and Procedure (18 CFR 385.214).

The Commission strongly encourages electronic filings of comments, protests and interventions in lieu of paper using the eFiling link at http://www.ferc.gov. Persons unable to file electronically should submit an original and five copies of the protest or intervention to the Federal Energy Regulatory Commission, 888 First Street NE, Washington, DC 20426.

Comment Date: 5:00 p.m. Eastern Time on March 15, 2018.

Dated: February 22, 2018.
Kimberly D. Bose,
Secretary.

[FR Doc. 2018-04707 Filed 3-8-18; 8:45 am]

BILLING CODE 6717-01-P